DEPARTMENT OF TRANSPORTATION

Office of the Secretary; Aviation Proceedings, Agreements Filed During the Week Ending February 1, 2002.

The following Agreements were filed with the Department of Transportation under the provisions of 49 U.S.C. Sections 412 and 414. Answers may be filed within 21 days after the filing of the application.

[Docket Number: OST-2002-11423]

Date Filed: January 28, 2002.

Parties: Members of the International Air Transport Association.

Subject: PTC COMP 0895 dated 29 January 2002, Mail Vote 197—Resolution 010z, Special Passenger Amending Resolution, Preface Notes to passenger fares tables, Intended effective date: 1 April 2002.

[Docket Number: OST-2002-11429]

Date Filed: January 29, 2002.

Parties: Members of the International Air Transport Association.

Subject: PTC3 0546 dated 29 January 2002, Mail Vote 196—Resolution 010y, TC3 Between Japan, Korea and South East Asia, Special Passenger Amending Resolution between China, (excluding Hong Kong SAR and Macau SAR) and Japan, Intended effective date: 31 March 2002.

[Docket Number: OST-2002-11430]

Date Filed: January 29, 2002.

Parties: Members of the International Air Transport Association.

Subject: PTC3 0545 dated 29 January 2002, Mail Vote 195—Resolution 010x, TC3 Between Japan, Korea and South East Asia, Special Passenger Amending Resolution between Japan and China (excluding Hong Kong SAR and Macau SAR), Intended effective date: 1 April 2002.

[Docket Number: OST-2002-11427]

Date Filed: January 29, 2002.

Parties: Members of the International Air Transport Association.

Subject: PTC3 0529 dated 8 January 2002, TC3 Areawide Resolutions r1-r8; PTC3 0530 dated 8 January 2002, TC3 Within South Asian Subcontinent Resolutions r9-r17; PTC3 0531 dated 8 January 2002, TC3 Within South East Asia Resolutions r18-r29; PTC3 0532 dated 8 January 2002, TC3 Within South West Pacific Resolutions r30-r35; PTC3 0533 dated 8 January 2002, TC3 between South East Asia and South Asian, Subcontinent Resolutions r36-r44; PTC3 0534 dated 8 January 2002, TC3 between South Asian Subcontinent and, South West Pacific Resolutions r45-r52; PTC3 0535 dated 8 January 2002, TC3 between South East Asia and, South West Pacific Resolutions r53-r57; PTC3 0536 dated 8 January 2002, TC3 between Japan and Korea Resolutions r58-r69; PTC3 0537 dated 8 January 2002, TC3 between Japan, Korea and South Asian, Subcontinent Resolutions r70-r84; PTC3 0538 dated 8 January 2002, TC3 between Japan, Korea and South East Asia r85-r113; PTC3 0539 dated 8 January 2002, TC3 between Japan, Korea and South West Pacific r114-r163; MINUTES—PTC3 0544 dated 25 January 2002, TABLES—PTC3 Fares 0164 dated 8 January 2002; PTC3 Fares 0165 dated 8 January 2002; PTC3 Fares 0166 dated 8 January 2002; PTC3 Fares 0167 dated 8 January 2002; PTC3 Fares 0168 dated 8 January 2002; PTC3 Fares 0169 dated 8 January 2002; PTC3 Fares 0170 dated 8 January 2002; PTC3 Fares 0171 dated 8 January 2002; PTC3 Fares 0172 dated 8 January 2002; PTC3 Fares 0173 dated 8 January 2002; Intended effective date: 1 April 2002.

[Docket Number: OST-2002-11438]

Date Filed: January 30, 2002.

Parties: Members of the International Air Transport Association.

Subject: PTC12 SATL-EUR 0084 dated 29 January 2002, Expedited South Atlantic-Europe Resolution 001b, Intended effective date: 15 March 2002.

Dorothy Y. Beard,
Federal Register Liaison.

[FR Doc. 02-3965 Filed 2-15-02; 8:45 am]

BILLING CODE 4910-62-P